DEPARTMENT OF TRANSPORTATION

Federal Aviation Administration

14 CFR Part 39

[Docket No. 2002-NM-343-AD]

RIN 2120-AA64

Airworthiness Directives; BAE Systems (Operations) Limited Model BAe 146 and Avro 146-RJ Series Airplanes

AGENCY: Federal Aviation Administration, DOT.

ACTION: Notice of proposed rulemaking (NPRM).

SUMMARY: This document proposes the adoption of a new airworthiness directive (AD) that is applicable to certain BAE Systems (Operations) Limited Model BAe 146 and Avro 146-RJ series airplanes equipped with Pacific Scientific engine fire extinguisher bottles. This proposal would require a one-time inspection to detect discrepancies in the wiring installation of the engine fire extinguisher bottles, and related investigative/corrective actions as necessary. This action is necessary to prevent the inability of the left-hand fire extinguisher on one or more engines to discharge, and consequent inability to control or suppress an engine fire. This action is intended to address the identified unsafe condition.

DATES: Comments must be received by April 16, 2004.

ADDRESSES: Submit comments in triplicate to the Federal Aviation Administration (FAA), Transport Airplane Directorate, ANM-114, Attention: Rules Docket No. 2002-NM-343-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-343-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

• Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-343-AD.” The postcard will be date stamped and returned to the commenter.

Availability of NPRMs

Any person may obtain a copy of this NPRM by submitting a request to the FAA, Transport Airplane Directorate, ANM-114, Attention: Rules Docket No. 2002-NM-343-AD, 1601 Lind Avenue, SW., Renton, Washington 98055-4056.

Discussion

The Civil Aviation Authority (CAA), which is the airworthiness authority for the United Kingdom, notified the FAA that an unsafe condition may exist on certain BAE Systems (Operations) Limited Model BAe 146 and Avro 146-RJ series airplanes equipped with Pacific Scientific engine fire extinguisher bottles. The CAA advises that an operator has reported that it is possible to incorrectly wire the left-hand engine fire extinguisher circuits on each engine. If left undetected, such incorrect wiring could result in the inability of the left-hand fire extinguisher on one or more engines to discharge, and consequent inability to control or suppress an engine fire.

Explanation of Relevant Service Information

BAE Systems (Operations) Limited has issued Inspection Service Bulletin 26-065, dated September 16, 2002. This service bulletin describes procedures for visually inspecting the wiring installation for Pacific Scientific engine fire extinguisher bottles. The procedures for the visual inspection include a one-time test of the wiring for the indicating system of the engine fire extinguishing system, and related investigative/corrective actions. The related investigative action is a function test of the left-hand fire extinguishing and cartridge firing unit system. The function test is necessary only if each engine does not pass the wiring test for the indicating system. The function test includes examining the wiring installation to determine if the correct wires are connected to the firing cartridge, testing correct loop resistance, and testing for correct voltage. The corrective actions include disconnecting and reconnecting the wiring for the left-hand engine fire extinguishing and cartridge firing unit system per the applicable BAE Systems (Operations) Limited wiring manual and Drawing 2 of the service bulletin. Accomplishment of the actions specified in the service bulletin is intended to adequately address the identified unsafe condition. The CAA classified this service bulletin as mandatory and issued British airworthiness directive 003-09-2002 to ensure the continued airworthiness of these airplanes in the United Kingdom.

FAA's Conclusions

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed AD

Since an unsafe condition has been identified that is likely to exist or develop on other airplanes of the same type design registered in the United States, the proposed AD would require accomplishment of the actions specified in the service bulletin described previously, except as discussed below.

Differences Between the Service Information and This Proposed AD

The effectivity of the service bulletin states that airplanes with BAE Systems (Operations) Limited Modification HCM01582B installed are exempt from the inspection/test if BAE Systems (Operations) Limited Service Bulletin 26-060 (Inspection for Cross Connection of Wiring on Pacific Scientific Fire Extinguishers) has been accomplished on each engine. This information is not included in the applicability of this proposed AD, but it is included in paragraph (b) of this proposed AD.

The service bulletin specifies to submit certain information to the manufacturer. This proposed AD does not include such a requirement.

Clarification of Requirements

The British airworthiness directive requires a test of the left-hand fire extinguisher bottle wiring on all four engines. The Accomplishment Instructions of the service bulletin specify that the fire bottle wiring test includes a visual inspection of the wiring. This proposed AD specifies that both a detailed inspection of the fire extinguisher bottle wiring and a test of the left-hand engine fire extinguishing system will be required.

Cost Impact

The FAA estimates that 54 airplanes of U.S. registry would be affected by this proposed AD, that it would take approximately 3 work hours per airplane to accomplish the proposed actions, and that the average labor rate is $65 per work hour. Based on these figures, the cost impact of the proposed AD on U.S. operators is estimated to be $10,530, or $195 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2002-NM-343-AD.

Applicability: Model BAe 146 and Avro 146-RJ series airplanes, equipped with Pacific Scientific engine fire extinguisher bottles, and having BAE Systems (Operations) Limited Modification HCM01688A, and either HCM01582A or HCM01582B installed; certificated in any category;

Compliance: Required as indicated, unless accomplished previously.

To prevent the inability of the left-hand fire extinguisher bottle on one or more engines to discharge, and consequent inability to control or suppress an engine fire, accomplish the following:

Inspection, Test, and Related Investigative/Corrective Actions

(a) Within 6 months after the effective date of this AD: Do a one-time detailed inspection to detect discrepancies in the wiring installation of the fire extinguisher bottles for the engines, a one-time test of the wiring for the indicating system of the engine fire extinguishing system, and all applicable related investigative/corrective actions, per the Accomplishment Instructions of BAE Systems (Operations) Limited Inspection Service Bulletin ISB.26-065, dated September 16, 2002. Do all of the actions per the service bulletin. Any corrective actions must be done before further flight. Although the service bulletin specifies to submit certain information to the manufacturer, this AD does not include such a requirement.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Credit for Actions Done Per Other Service Information

(b) For airplanes with BAE Systems (Operations) Limited Modification HCM01582B installed: Accomplishment of BAE Systems (Operations) Limited Service Bulletin 26-060 (Inspection for Cross Connection of Wiring on Pacific Scientific Fire Extinguishers) on each engine is considered acceptable for compliance with the requirements of this AD.

Alternative Methods of Compliance

(c) In accordance with 14 CFR 39.19, the Manager, International Branch, ANM-116, FAA, Transport Airplane Directorate, is authorized to approve alternative methods of compliance for this AD.

Note 2: The subject of this AD is addressed in British airworthiness directive 003-09-2002.

Issued in Renton, Washington, on March 5, 2004.
Ali Bahrami,
Acting Manager, Transport Airplane Directorate, Aircraft Certification Service.

[FR Doc. 04-5944 Filed 3-16-04; 8:45 am]

BILLING CODE 4910-13-P